DEPARTMENT OF EDUCATION

Notice of Submission for OMB Review; Institute of Education Sciences; Early Childhood Longitudinal Study Kindergarten Class of 2010-11 (ECLS-K:2011) Spring Second-Grade Full Scale Collection and Third- and Fourth-Grade Tracking and Third-Grade Recruitment

SUMMARY: The Early Childhood Longitudinal Study, Kindergarten Class of 2010-11 (ECLS-K:2011), sponsored by the National Center for Education Statistics (NCES) within the Institute of Education Sciences (IES) of the U.S. Department of Education (ED), is a survey that focuses on children's early school experiences beginning with kindergarten and continuing through the fifth grade. It includes the collection of data from parents, teachers, school administrators, and non-parental care providers, as well as direct child assessments. Like its sister study, the Early Childhood Longitudinal Study, Kindergarten Class of 1998-99 (ECLS-K), the ECLS-K:2011 is exceptionally broad in its scope and coverage of child development, early learning, and school progress, drawing together information from multiple sources to provide rich data about the population of children who were kindergartners in the 2010-11 school year. This submission requests OMB's clearance for (1) A spring 2013 second-grade national data collection; (2) recruitment for the spring 2014 third-grade data collection, and (3) tracking students for the spring 2014 third-grade and spring 2015 fourth-grade data collection.

DATES: Interested persons are invited to submit comments on or before October 1, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04927. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Early Childhood Longitudinal Study Kindergarten Class of 2010-11 (ECLS-K:2011) Spring Second-Grade Full Scale Collection and Third- and Fourth-Grade Tracking and Third-Grade Recruitment.

OMB Control Number: 1850-0750.

Type of Review: Revision.

Total Estimated Number of Annual Responses: 133,462.

Total Estimated Number of Annual Burden Hours: 47,175.

Abstract: The Early Childhood Longitudinal Study, Kindergarten Class of 2010-11 (ECLS-K:2011), sponsored by the National Center for Education Statistics (NCES) within the Institute of Education Sciences (IES) of the U.S. Department of Education (ED), is a survey that focuses on children's early school experiences beginning with kindergarten and continuing through the fifth grade. It includes the collection of data from parents, teachers, school administrators, and non-parental care providers, as well as direct child assessments. Like its sister study, the Early Childhood Longitudinal Study, Kindergarten Class of 1998-99 (ECLS-K), the ECLS-K:2011 is exceptionally broad in its scope and coverage of child development, early learning, and school progress, drawing together information from multiple sources to provide rich data about the population of children who were kindergartners in the 2010-11 school year. This submission requests OMB's clearance for (1) A spring 2013 second-grade national data collection; (2) recruitment for the spring 2014 third-grade data collection, and (3) tracking students for the spring 2014 third-grade and spring 2015 fourth-grade data collection.

Dated: August 24, 2012.
Stephanie Valentine,
Acting Director, Information Collection Clearance Division, Privacy, Information and Records Management Services, Office of Management.

[FR Doc. 2012-21292 Filed 8-29-12; 8:45 am]

BILLING CODE 4000-01-P